DEPARTMENT OF ENERGY

Federal Energy Regulatory Commission

Combined Notice of Filings

Take notice that the Commission has received the following Natural Gas Pipeline Rate and Refund Report filings:

Filings Instituting Proceedings

Docket Numbers: RP26-288-000.

Applicants: Equitrans, L.P.

Description: § 4(d) Rate Filing: Negotiated Rate Capacity Release Agreement—12/13/2025 to be effective 12/13/2025.

Filed Date: 12/12/25.

Accession Number: 20251212-5024.

Comment Date: 5 p.m. ET 12/24/25.

Docket Numbers: RP26-289-000.

Applicants: Maritimes & Northeast Pipeline, L.L.C.

Description: § 4(d) Rate Filing: Negotiated Rates—Tenaska to TM Energy eff 12-12-25 to be effective 12/12/2025.

Filed Date: 12/12/25.

Accession Number: 20251212-5086.

Comment Date: 5 p.m. ET 12/24/25.

Docket Numbers: RP26-290-000.

Applicants: Mountain Valley Pipeline, LLC.

Description: § 4(d) Rate Filing: Negotiated Rate Capacity Release Agreement—12/13/2025 to be effective 12/13/2025.

Filed Date: 12/12/25.

Accession Number: 20251212-5110.

Comment Date: 5 p.m. ET 12/24/25.

Docket Numbers: RP26-291-000.

Applicants: Tennessee Gas Pipeline Company, L.L.C.

Description: § 4(d) Rate Filing: Negotiated Rate Agreement—Berkshire Gas Company to be effective 1/1/2026.

Filed Date: 12/12/25.

Accession Number: 20251212-5112.

Comment Date: 5 p.m. ET 12/24/25.

Docket Numbers: RP26-292-000.

Applicants: NextEra Energy Marketing, LLC, UGI Utilities, Inc.

Description: Joint Petition for Limited Waiver of Capacity Release Regulations, et al. of NextEra Energy Marketing, LLC, et al.

Filed Date: 12/12/25.

Accession Number: 20251212-5199.

Comment Date: 5 p.m. ET 12/24/25.

Docket Numbers: RP26-294-000.

Applicants: Transcontinental Gas Pipe Line Company, LLC.

Description: § 4(d) Rate Filing: Negotiated Rates—FT—Sequent Energy Management to be effective 4/1/2025.

Filed Date: 12/15/25.

Accession Number: 20251215-5230.

Comment Date: 5 p.m. ET 12/29/25.

Docket Numbers: RP26-295-000.

Applicants: El Paso Natural Gas Company, L.L.C.

Description: § 4(d) Rate Filing: Negotiated Rate Agreement Update (Hartree Permanent Feb 26) to be effective 2/1/2026.

Filed Date: 12/15/25.

Accession Number: 20251215-5237.

Comment Date: 5 p.m. ET 12/29/25.

Docket Numbers: RP26-296-000.

Applicants: Texas Eastern Transmission, LP.

Description: § 4(d) Rate Filing: TETLP Customer Name Change Filing eff 1-15-26 to be effective 1/15/2026.

Filed Date: 12/15/25.

Accession Number: 20251215-5244.

Comment Date: 5 p.m. ET 12/29/25.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: December 15, 2025.
Carlos D. Clay,
Deputy Secretary.

[FR Doc. 2025-23270 Filed 12-17-25; 8:45 am]

BILLING CODE 6717-01-P